NORTHEAST DAIRY COMPACT COMMISSION

Notice of meeting

AGENCY: Northeast Dairy Compact Commission.

ACTION: Notice of Meeting.

SUMMARY: The Compact Commission will hold its regular monthly meeting to consider matters relating to administration and enforcement of the price regulation. This meeting will be held in Mystic, Connecticut, continuing the Commission's program of holding a meeting in each of the Compact states. In addition to receiving reports and recommendations of its standing Committees, the Commission will receive a number of informational reports about the impact of the over-order price regulation in Connecticut.

DATES: The meeting will begin at 10 a.m. on Wednesday, August 8, 2001.

ADDRESSES: The meeting will be held at the Best Western Hotel, 9 Whitehall Avenue, Mystic, Connecticut 06355.

FOR FURTHER INFORMATION CONTACT: Daniel Smith, Executive Director, Northeast Dairy Compact Commission, 64 Main Street, Room 21, Montpelier, VT 05602. Telephone (802) 229-1941.

Authority: 7 U.S.C. 7256.

Dated: July 17, 2001.
Daniel Smith,
Executive Director.

[FR Doc. 01-18289 Filed 7-20-01; 8:45 am]

BILLING CODE 1650-01-P